DEPARTMENT OF DEFENSE

Office of the Secretary

Renewal of Department of Defense Federal Advisory Committee; Missouri River (North Dakota) Task Force

AGENCY: Department of Defense (DoD).

ACTION: Renewal of Federal advisory committee.

SUMMARY: Under the provisions of section 705(a) of title VII, the Missouri River Protection and Improvement Act of 2000, Public Law 106-541, the Federal Advisory Committee Act of 1972, (5 U.S.C. Appendix), the Government in the Sunshine Act of 1976 (5 U.S.C. 552b, as amended), and 41 CFR 102-3.50, the Department of Defense gives notice that it is renewing the charter for the Missouri River (North Dakota) Task Force (hereafter referred to as the Task Force).

FOR FURTHER INFORMATION CONTACT: Jim Freeman, Deputy Advisory Committee Management Officer for the Department of Defense, 703-601-6128.

SUPPLEMENTARY INFORMATION: The Task Force is a non-discretionary Federal advisory committee and shall provide independent advice and recommendations to the Secretary of the Army on plans and projects to reduce siltation of the Missouri River in the State of North Dakota and to meet the objectives of the Pick-Sloan Program. Specifically, the Task Force shall:

a. Prepare and approve, by a majority of the members, a plan for the use of the funds made available under Public Law 106-541 to promote conservation practices in the Missouri River watershed, control and remove the sediment from the Missouri River, protect recreation on the Missouri River from sedimentation, and protect Indian and non-Indian historical and cultural sites along the Missouri River from erosion;

b. Develop and recommend to the Secretary of the Army for implementation critical restoration projects meeting the goals of the plan; and

c. Determine if these projects primarily benefit the Federal Government.

The Secretary of the Army may act upon the Task Force's advice and recommendations.

As prescribed by Public Law 106-541, the Task Force shall be composed of not more than twenty members. Specifically, the Task Force membership shall be composed of:

a. Secretary of the Army or designee, who shall serve as Chairperson;

b. Secretary of Agriculture or designee;

c. Secretary of Energy or designee;

d. Secretary of the Interior or designee; and

e. The Trust. The Trust is composed of sixteen members to be appointed by the Secretary of the Army, including;

i. Twelve members recommended by the Governor or North Dakota that represent equally the various interest of the public. Included in these twelve members, there shall be recommendations of representatives of the North Dakota Department of Health, the North Dakota Parks and Recreation Department, the North Dakota Department of Game and Fish, the North Dakota State Water Commission, the North Dakota Indian Affairs Commission, agricultural groups, environmental or conservations groups, the hydroelectric power industry, recreations user groups, local governments, and other appropriate interests.

ii. The Trust also shall include one member recommended by each of the four Indian Tribes in the State of North Dakota.

These individuals recommended for The Trust shall be appointed by the Secretary of the Army as representative members of the Task Force.

All Task force members shall be appointed for two-year terms and generally will serve no more than four years total on the Task Force, or as determined by the Secretary of the Army or designee. In addition, all Task Force members shall, with the exception of travel and per diem for official travel, serve without compensation.

With DoD approval, the Task Force is authorized to establish subcommittees, as necessary and consistent with its mission. These subcommittees or working groups shall operate under the provisions of the Federal Advisory Committee Act of 1972, the Government in the Sunshine Act of 1976 (5 U.S.C. 552b), and other appropriate Federal statutes and regulations.

Such subcommittees or workgroups shall not work independently of the chartered Task Force, and shall report all their recommendations and advice to the Task Force for full deliberation and discussion. Subcommittees or workgroups have no authority to make decisions on behalf of the chartered Task Force; nor can they report directly to the Department of Defense or any Federal officers or employees who are not Task Force members.

Subcommittee members, who are not Task Force members, shall be appointed in the same manner as the Task Force members.

The Task Force shall meet at the call of the Task Force's Designated Federal Officer, in consultation with the Chairperson. The estimated number of Task Force meetings is two per year.

The Designated Federal Officer, pursuant to DoD policy, shall be a full-time or permanent part-time DoD employee, and shall be appointed in accordance with established DoD policies and procedures. In addition, the Designated Federal Officer is required to be in attendance at all meetings; however, in the absence of the Designated Federal Officer, the Alternate Designated Federal Officer shall attend the meeting.

Pursuant to 41 CFR 102-3.105(j) and 102-3.140, the public or interested organizations may submit written statements to the Missouri River (North Dakota) Task Force mission and functions. Written statements may be submitted at any time or in response to the stated agenda of planned meeting of the Missouri River (North Dakota) Task Force.

All written statements shall be submitted to the Designated Federal Officer for the Missouri River (North Dakota) Task Force, and this individual will ensure that the written statements are provided to the membership for their consideration. Contact information for the Missouri River (North Dakota) Task Force Designated Federal Officer can be obtained from the GSA's FACA Database— https://www.fido.gov/facadatabase/public.asp.

The Designated Federal Officer, pursuant to 41 CFR 102-3.150, will announce planned meetings of the Missouri River (North Dakota) Task Force. The Designated Federal Officer, at that time, may provide additional guidance on the submission of written statements that are in response to the stated agenda for the planned meeting in question.

Dated: April 20, 2010.
Mitchell S. Bryman,
Alternate OSD Federal Register Liaison Officer, Department of Defense.

[FR Doc. 2010-9539 Filed 4-23-10; 8:45 am]

BILLING CODE 5001-06-P